DEPARTMENT OF HEALTH AND HUMAN SERVICES

National Institutes of Health

Center for Scientific Review; Amended Notice of Meeting

Notice is hereby given of a change in the meeting of the Center for Scientific Review Special Emphasis Panel, Member Conflict: Topics in Bacterial Pathogenesis and Host Interactions, December 10, 2019, 10:00 a.m. to December 10, 2019, 5:00 p.m., National Institutes of Health, 6701 Rockledge Drive, Bethesda, MD 20892 which was published in the Federal Register on November 19, 2019, 84 FR 63883.

The meeting start date is being changed to December 16, 2019. The meeting start time and location remains the same. The meeting is closed to the public.

Dated: November 22, 2019.
Ronald J. Livingston, Jr.,
Program Analyst, Office of Federal Advisory Committee Policy.

[FR Doc. 2019-25846 Filed 11-27-19; 8:45 am]

BILLING CODE 4140-01-P